DEPARTMENT OF AGRICULTURE

Departmental Management; Public Meeting on BioPreferred℠ Voluntary Labeling Program

AGENCY: Departmental Management, Office of Procurement and Property Management, USDA.

ACTION: Notice of public meeting.

SUMMARY: The U.S. Department of Agriculture (USDA) will hold a public meeting on January 5, 2010, for interested stakeholders to discuss the issue of evaluating environmental assessment of biobased products, including the proposed determination and use of product life cycle assessment (LCA), as that issue pertains to (1) The designation by the U.S. Department of Agriculture of biobased products for a Federal procurement preference, as mandated by the 2008 Farm Bill, and (2) the need for supplementary information about a product's environmental aspects under the pending “USDA Certified Biobased Product” labeling program. Given the growing importance of biobased products to consumers, industry, and government, there is a clear need to assess the sustainability of these products, and to do so using an agreed-upon and credible process/procedure.

DATES: January 5, 2010, 8:30 a.m. (EST) to 1 p.m. (EST).

Meeting Location: Jefferson Auditorium, South Building, U.S. Department of Agriculture, 1400 Independence Ave., SW., Washington, DC 20250-9911.

Pre-registration for the January 5, 2010, meeting is not required but would be helpful, particularly if you wish to make a presentation. If you wish to register to attend please do so at this Web site: http://www.cepd.iastate.edu/biopreferred and state whether or not you wish to be recognized to make a formal presentation.

For security purposes and to facilitate a smooth entry into a Federal facility, attendees may provide their names in advance, as spelled on government issued identification, via e-mail to: BioPreferred@usda.gov. This list will be given to security personnel to expedite the entry process. Additionally, attendees are encouraged to gain entry into the building at Wing 7 on the corner of 14th Street and Independence Avenue, SW., and will be required to present government issued identification. (You may also enter through Wing 1 near the Metro at 12th St. and Independence Ave. Escorts will be available to make sure you find the Jefferson Auditorium with no difficulty.) Those attending are advised to arrive at least 30 minutes early to pass through security.

Those unable to attend the public meeting in person may listen to the meeting by calling 800-857-5233. The pass code is “USDA”. Participants using the audio bridge may e-mail comments or questions during the meeting to BioPreferred@usda.gov.

FOR FURTHER INFORMATION CONTACT: U.S. Department of Agriculture, Office of Procurement and Property Management, Ron Buckhalt, BioPreferred Manager, 342 Reporters Building, 300 7th Street, SW., Washington, DC 20024, (202) 205-4008. RonB.Buckhalt@DA.USDA.GOV.

SUPPLEMENTARY INFORMATION: Section 9002 of the Farm Security and Rural Investment Act of 2002 (FSRIA) (Pub. L. 107-171) established a program for the procurement of USDA designated biobased products by Federal agencies and a voluntary program for the labeling of USDA certified biobased products. The Food, Conservation, and Energy Act of 2008 (2008 Farm Bill) (Pub. L. 110-246) continued these programs and made certain changes to the Federal procurement preference program. USDA refers to the procurement preference program and the voluntary labeling program together as the BioPreferred Program.

Due to the changes mandated by the 2008 Farm Bill, and the passage of five years since USDA first published the Guidelines for Designated Biobased Products for Federal Procurement (Guidelines) (7 CFR 2902), USDA intends to revise the Guidelines. USDA is holding a series of public meetings to gather input from interested stakeholders on what should be considered when revising the Guidelines.

The goal of this public meeting is to gather information about the determination and use of product life cycle assessment (LCA) as it relates to the BioPreferred program. BioPreferred is a Federal program that encourages the purchase and use of biobased products—those made from biological or renewable agricultural materials. Program management is seeking input on (1) How best to determine if biobased products are environmentally preferable to conventional products (e.g., the optimum process for analyzing these biological ingredients and materials) and (2) what measures/methods other stakeholders are using to determine and clarify this issue based on ongoing work by numerous entities in this area.

Under the current Guidelines, USDA determines life cycle costs, environmental and health benefits, and performance of biobased products using Building for Environmental and Economic Sustainability (BEES), an analytic tool used to determine the environmental and health benefits and life cycle costs of items. The U.S. Department of Commerce, National Institute of Standards and Technology, with support from the U.S. Environmental Protection Agency (EPA), developed the BEES model.

BEES measures the environmental performance of products by using the internationally standardized and science-based life cycle assessment approach specified in the International Organization for Standards (ISO) 14040 standards. All stages in the life of a product are analyzed: raw material acquisition, manufacture, transportation, installation, use, and recycling and waste management. Biobased product economic performance is measured using the American Society for Testing and Materials (ASTM) standard life cycle cost method, which covers the costs of initial investment, replacement, operation, maintenance and repair, and disposal.

The working definition of LCA under consideration for the January 5, 2010 meeting is “the compilation and evaluation of the inputs, outputs, and the potential environmental impacts of a product system throughout its life cycle, including manufacture, use, and disposal.” LCA is one of several environmental management techniques (e.g., risk assessment, environmental performance evaluation, environmental auditing, and environmental impact assessment).

To set the stage before opening the forum for public comment, USDA has invited to the public meeting speakers from USDA and EPA, as well as individuals from academia and industry who are well-versed in sustainable practices and determination and implementation of product LCA. USDA is seeking answers to a series of questions about LCA and the role of BEES in designating biobased products for Federal procurement. These questions include:

• How should USDA use LCA to designate categories of biobased products for preferred Federal procurement?

• Should USDA use LCA to determine which biobased/BioPreferred products will be eligible for voluntary product labeling and, if so, how?

• Is BEES the most appropriate tool for LCA for the BioPreferred program?

• Should USDA consider a more simplified approach to environmental assessment such as carbon footprinting rather than multivariate analyses such as BEES?

Additionally, USDA will hold two meetings in 2010 to hear from interested stakeholders about their input on two other subjects. The first meeting will focus on how to designate complex biobased products. The second meeting will address how to designate intermediate ingredients and feedstocks that can be used to produce items subject to the Federal procurement preference program and how to automatically designate items composed of designated intermediate ingredients and feedstocks if the content of the designated intermediate ingredients and feedstocks exceeds 50 percent of the item (unless the Secretary determines a different composition percentage is appropriate). One of these two 2010 meetings will be held in Iowa and the other in California. USDA will post notices in the Federal Register when details are final regarding these meetings.

Done in Washington, DC, this eleventh day of December 2009.
Robin E. Heard,
Deputy Assistant Secretary for Administration, U.S. Department of Agriculture.

[FR Doc. E9-29957 Filed 12-15-09; 8:45 am]

BILLING CODE P